DEPARTMENT OF COMMERCE

National Institute of Standards and Technology

National Fire Codes: Request for Proposals for Revision of Codes and Standards

AGENCY: National Institute of Standards and Technology, Commerce.

ACTION: Notice.

SUMMARY: The National Fire Protection Association (NFPA) proposes to revise some of its fire safety codes and standards and requests proposals from the public to amend existing or begin the process of developing new NFPA fire safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

DATES: Interested persons may submit proposals on or before the dates listed with the standards.

ADDRESSES: Casey C. Grant, Secretary, Standards Council, NFPA, 1 Batterymarch Park, Quincy, Massachusetts 02269-9101.

FOR FURTHER INFORMATION CONTACT: Casey C. Grant, Secretary, Standards Council, at above address, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR part 51.

Request for Proposals

Interested persons may submit proposals, supported by written data, views, or arguments to Casey C. Grant, Secretary, Standards Council, NFPA, 1 Batterymarch Park, Quincy, Massachusetts 02269-9101. Proposals should be submitted on forms available from the NFPA Codes and Standards Administration Office or on NFPA's Web site at http://www.nfpa.org.

Each person must include his or her name and address, identify the document and give reasons for the proposal. Proposals received before or by 5 p.m. local time on the closing date indicated would be acted on by the Committee. The NFPA will consider any proposal that it receives on or before the date listed with the codes or standard.

At a later date, each NFPA Technical Committee will issue a report, which will include a copy of written proposals that have been received, and an account of their disposition of each proposal by the NFPA Committee as the Report on Proposals. Each person who has submitted a written proposal will receive a copy of the report.

Document—edition | Document title | Proposal closing date
NFPA 13—2002 | Standard for the Installation of Sprinkler Systems | 11/5/2004
NFPA 13D—2002 | Standard for the Installation of Sprinkler Systems in One- and Two-Family Dwellings and Manufactured Homes | 11/5/2004
NFPA 13R—2002 | Standard for the Installation of Sprinkler Systems in Residential Occupancies up to and Including Four Stories in Height | 11/5/2004
NFPA 15—2001 | Standard for Water Spray Fixed Systems for Fire Protection | 11/29/2004
NFPA 20—2003 | Standard for the Installation of Stationary Pumps for Fire Protection | 12/31/2004
NFPA 24—2002 | Standard for the Installation of Private Fire Service Mains and Their Appurtenances | 11/5/2004
NFPA 25—2002 | Standard for the Inspection, Testing, and Maintenance of Water-Based Fire Protection Systems | 5/27/2005
NFPA 30—2003 | Flammable and Combustible Liquids Code | 11/29/2004
NFPA 30A—2003 | Code for Motor Fuel Dispensing Facilities and Repair Garages | 11/29/2004
NFPA 30B—2002 | Code for the Manufacture and Storage of Aerosol Products | 11/29/2004
NFPA 32—2004 | Standard for Drycleaning Plants | 11/29/2004
NFPA 33—2003 | Standard for Spray Application Using Flammable or Combustible Materials | 11/29/2004
NFPA 34—2003 | Standard for Dipping and Coating Processes Using Flammable or Combustible Liquids | 11/29/2004
NFPA 40—2001 | Standard for the Storage and Handling of Cellulose Nitrate Film | 11/29/2004
NFPA 58—2004 | Liquefied Petroleum Gas Code | 5/27/2005
NFPA 59—2004 | Utility LP-Gas Plant Code | 5/27/2005
NFPA 68—2002 | Guide for Venting of Deflagrations | 5/27/2005
NFPA 72—2002 | National Fire Alarm Code® | 11/5/2004
NFPA 77—2000 | Recommended Practice on Static Electricity | 11/29/2004
NFPA 80A—2001 | Recommended Practice for Protection of Buildings from Exterior Fire Exposures | 11/29/2004
NFPA 85—2004 | Boiler and Combustion Systems Hazards Code | 5/27/2005
NFPA 86—2003 | Standard for Ovens and Furnaces | 11/29/2004
NFPA 88A—2002 | Standard for Parking Structures | 11/29/2004
NFPA 101A—2004 | Guide on Alternative Approaches to Life Safety | 11/29/2004
NFPA 101B—2002 | Code for Means of Egress for Buildings and Structures | 11/29/2004
NFPA 130—2003 | Standard for Fixed Guideway Transit and Passenger Rail Systems | 11/29/2004
NFPA 150—2000 | Standard on Fire Safety in Racetrack Stables | 11/29/2004
NFPA 258—2001 | Recommended Practice for Determining Smoke Generation of Solid Materials | 11/29/2004
NFPA 262—2002 | Standard Method of Test for Flame Travel and Smoke of Wires and Cables for Use in Air-Handling Spaces | 11/29/2004
NFPA 265—2002 | Standard Methods of Fire Tests for Evaluating Room Fire Growth Contribution of Textile Coverings on Full Height Panels and Walls | 11/29/2004
NFPA 268—2001 | Standard Test Method for Determining Ignitibility of Exterior Wall Assemblies Using a Radiant Heat Energy Source | 11/29/2004
NFPA 287—2001 | Standard Test Methods for Measurement of Flammability of Materials in Cleanrooms Using a Fire Propagation Apparatus (FPA) | 11/29/2004
NFPA 288—2001 | Standard Method of Fire Tests of Floor Fire Door Assemblies Installed Horizontally in Fire Resistance Rated Floor Systems | 11/29/2004
NFPA 291—2002 | Recommended Practice for Fire Flow Testing and Marking of Hydrants | 11/5/2004
NFPA 301—2001 | Code for Safety to Life from Fire on Merchant Vessels | 11/29/2004
NFPA 407—2001 | Standard for Aircraft Fuel Servicing | 11/29/2004
NFPA 490—2002 | Code for the Storage of Ammonium Nitrate | 11/29/2004
NFPA 556—*P | Guide on Methods for Evaluating Fire Hazard and Fire Risk of Vehicular Furnishing | 11/29/2004
NFPA 655—2001 | Standard for Prevention of Sulfur Fires and Explosions | 11/29/2004
NFPA 664—2002 | Standard for the Prevention of Fires and Explosions in Wood Processing and Woodworking Facilities | 11/29/2004
NFPA 704—2001 | Standard System for the Identification of the Hazards of Materials for Emergency Response | 11/29/2004
NFPA 853—2003 | Standard for the Installation of Stationary Fuel Cell Power Plants | 11/29/2004
NFPA 1081—2001 | Standard for Industrial Fire Brigade Member Professional Qualifications | 11/29/2004
NFPA 1125—2001 | Code for the Manufacture of Model Rocket and High Power Rocket Motors | 11/29/2004
NFPA 1500—2002 | Standard on Fire Department Occupational Safety and Health Program | 11/29/2004
NFPA 1582—2003 | Standard on Comprehensive Occupational Medical Program for Fire Departments | 11/29/2004
NFPA 1583—2000 | Standard on Health-Related Fitness Programs for Fire Fighters | 11/29/2004
NFPA 1600—2004 | Standard on Disaster/Emergency Management and Business Continuity Programs | 5/27/2005
NFPA 1901—2003 | Standard for Automotive Fire Apparatus | 3/31/2006
NFPA 1911—2002 | Standard for Service Tests of Fire Pump Systems on Fire Apparatus | 4/1/2005
NFPA 1914—2002 | Standard for Testing Fire Department Aerial Devices | 4/1/2005
NFPA 1915—2000 | Standard for Fire Apparatus Preventative Maintenance Program | 4/1/2005
NFPA 2001—2004 | Standard on Clean Agent Fire Extinguishing Systems | 5/27/2005
NFPA 2112—2001 | Standard on Flame-Resistant Garments for Protection of Industrial Personnel Against Flash Fire | 11/29/2004
NFPA 2113—2001 | Standard on Selection, Care, Use, and Maintenance of Flame-Resistant Garments for Protection of Industrial Personnel Against Flash Fire | 11/29/2004
*P Proposed NEW drafts are available from NFPA's Web site— http://www.nfpa.org or may be obtained from NFPA's Codes and Standards Administration, 1 Batterymarch Park, Quincy, MA 02269.

Dated: November 15, 2004.
Hratch Semerjian,
Acting Director.

[FR Doc. 04-25734 Filed 11-18-04; 8:45 am]

BILLING CODE 3510-13-P